SMALL BUSINESS ADMINISTRATION

Information Collection for STEP Grant Program

AGENCY: U.S. Small Business Administration.

ACTION: 60-Day notice and request for comments.

SUMMARY: The Small Business Administration (SBA) intends to request approval from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before February 3, 2020.

ADDRESSES: Send all comments to James Parker, STEP Program Director, Office of International Trade, Small Business Administration, 409 3rd Street, 2nd Floor, Washington, DC 20416.

FOR FURTHER INFORMATION CONTACT: James Parker, STEP Program Director, Office of International Trade, Small Business Administration, james.parker@sba.gov, 202-205-3644, or Curtis B. Rich, Management Analyst, 202-205-7030, curtis.rich@sba.gov.

SUPPLEMENTARY INFORMATION: The primary objective of the STEP Client Report form is to collect data on the quarterly progress of grantees of the SBA's State Trade and Export Promotion (STEP) program. These data will be used to understand how states have improved their trade and export activities and revenue. The STEP program has two primary objectives: (1) Increase the number of small businesses that are exporting and (2) increase the value of exports for small businesses that are currently exporting. To achieve these objectives, SBA provides state-level grant recipients with funding for nine activities, including participation in foreign trade missions, design of marketing media, and trade show exhibitions.

Data from the STEP Client Report will provide SBA with critical information about the impact of various strategies used to advance trade and export activities in each state. These data will also provide an understanding of the specific ways in which funded activities meet SBA's goal of improving small business trade and export productivity. These data may inform strategies that can be replicated by other small businesses. These data are not currently being collected elsewhere and are critical to understanding the outcomes of STEP grantee activities.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: STEP Program Quarterly Client Reporting Form.

Description of Respondents: State administrators in states that receive an SBA STEP grant.

Form Number: N/A.

Total Estimated Annual Responses: 90.

Total Estimated Annual Hour Burden: 360 hours.

Curtis Rich,
Management Analyst.

[FR Doc. 2019-26235 Filed 12-4-19; 8:45 am]

BILLING CODE 8026-03-P